DEPARTMENT OF DEFENSE

Department of the Air Force

Air University Board of Visitors Meeting

ACTION: Notice of Meeting Cancellation of the Air Force Institute of Technology (AFIT) Subcommittee of the Air University Board of Visitors.

SUMMARY: Under the provisions of the Federal Advisory Committee Act of 1972 (5 U.S.C., Appendix, as amended), the Government in the Sunshine Act of 1976 (5 U.S.C. 552b, as amended), and 41 CFR 102-3.150, the Department of Defense announced that the Air Force Institute of Technology (AFIT) Subcommittee of the Air University Board of Visitors was scheduled to meet on Monday, March 12th, 2012, from 8 a.m. to 5 p.m. and Tuesday, March 13th, 2012, from 8 a.m. to 5 p.m.

Due to changing requirements beyond the control of the Air University Board of Visitors or its Designated Federal Officer, the Committee was unable to process the amended Federal Register notice for the above meeting as required by 41 CFR 102.3.150(a). Accordingly, the Advisory Committee Management Officer for the Department of Defense, pursuant to 41 CFR 102-3.150(b), waives the 15-calendar day notification requirement.

Any member of the public wishing to provide input to the Air University Board of Visitors should submit a written statement in accordance with 41 CFR 102-3.140(c) and section 10(a)(3) of the Federal Advisory Committee Act and the procedures described in this paragraph. Written statements can be submitted to the Designated Federal Officer at the address detailed below at any time. The Designated Federal Officer will review all timely submissions with the Air University Board of Visitors' Board Chairperson and ensure they are provided to members of the Board before the next meeting.

FOR FURTHER INFORMATION CONTACT: Mrs. Diana Bunch, Designated Federal Officer, Air University Headquarters, 55 LeMay Plaza South, Maxwell Air Force Base, Alabama 36112-6335, telephone (334) 953-4547.

Tommy W. Lee,
Acting Air Force Federal Register Liaison Officer.

[FR Doc. 2012-6605 Filed 3-19-12; 8:45 am]

BILLING CODE 5001-10-P